DEPARTMENT OF DEFENSE

Department of the Army

Notice of Availability of the Fort Bliss, Texas and New Mexico, Mission Master Plan Final Supplemental Programmatic Environmental Impact Statement

AGENCY: Department of the Army, DOD.

ACTION: Notice.

SUMMARY: The Department of the Army announces the availability of a Final Supplemental Programmatic Environmental Impact Statement (SEIS) identifying the potential environmental effects of changing land and airspace use at Fort Bliss to support evolving changes in missions and units and support Army Transformation, Integrated Global Presence and Basing Strategy (IGPBS), Base Realignment and Closure (BRAC), the Army Campaign Plan, and other Army initiatives.

The Final SEIS supplements the Fort Bliss, Texas and New Mexico, Mission Master Plan Programmatic Environmental Impact Statement (PEIS), for which a Record of Decision was signed in 2001.

DATES: The waiting period for the Final SEIS will end 30 days after publication of this NOA in the Federal Register.

FOR FURTHER INFORMATION CONTACT: Ms. Jean Offutt, Public Affairs Officer, IMSW-BLS-PA; Fort Bliss, TX 79916-6812; telephone: (915) 568-6812; fax: (915) 568-2995; e-mail: jean.offutt@bliss.army.mil.

SUPPLEMENTARY INFORMATION: The Proposed Action would change land use in the Main Cantonment Area to support units assigned to Fort Bliss under BRAC, and in the Fort Bliss Training Complex to support construction of live-fire ranges and designation of off-road maneuver space needed to train soldiers to doctrinal standards. In addition to the Proposed Action, the Final SEIS analyses the environmental affects of three other action alternatives and a No Action Alternative.

The action alternatives differ in the amount (216,000-352,000 acres) and location of additional land in the Tularosa Basin portion of McGregor Range proposed for off road maneuver, resulting in varied abilities to meet the defined need for maneuver training, accommodate units and missions in addition to the BRAC package, and flexibility to meet future requirements. Those portions of McGregor Range outside the Tularosa Basin, specifically Otero Mesa and the Sacramento Mountain foothills, would not experience changes in land use.

Issues associated with land use changes in the Training Complex include potential impacts to natural resources and cultural resources, potential land use conflicts with grazing portions of the proposed off-road maneuver space on McGregor Range, access to roads to the Forest Service grazing allotments on McGregor Range, recreational use of McGregor Range, and closures on NM Highway 506. Noise issues are part of the upgrade and/or construction of firing ranges.

Issues associated with land use changes and construction in the Main Cantonment Area include potential increases in air pollutant emissions, transportation issues, and socioeconomic issues including population growth and development public services and utilities, education, and quality of life.

Alternative 4, the Proposed Action, is anticipated to generate substantial economic benefits and the significantly affect population growth and development, traffic, utility demands, and demand for public and medical services in the region. Expansion of off-road vehicle maneuver training into the Tularosa Basin portion of McGregor Range, along with increased maneuvers in the North and South training Areas, is expected to increase wind and water erosion significantly, and would likely result in long-term changes in vegetation communities in the ore intensely used training areas. Training related noise is also expected to increase in areas adjacent to Dońa Ana Range and portions of McGregor Range.

Comments received on the Draft SEIS at public meetings and in writing are incorporated and addressed in the Final SEIS.

Copies of the Final SEIS are available at the following libraries: In El Paso, the Richard Burges Regional Library, 9600 Dyer; the Irving Schwartz Branch Library, 1865 Dean Martin; the Clardy Fox Branch Library, 5515 Robert Alva; and the Doris van Doren Regional Branch Library, 551 Redd Road. In Las Cruces, NM, the New Mexico State University Zuhl Library at 299 McFie Circle; and in Alamogordo, NM, at the Alamogordo Public Library, 920 Oregon Avenue. The document can also be reviewed at https://www.bliss.army.mil.

John A. Macdonald,
Brigadier General, U.S. Army, Deputy Commanding General, Installation Management Command.

[FR Doc. 07-1432 Filed 3-22-07; 8:45 am]

BILLING CODE 3710-08-M